DEPARTMENT OF TRANSPORTATION

Federal Highway Administration

[FHWA Docket No. FHWA-2005-23328]

Implementation of the Highways for LIFE Pilot Program

AGENCY: Federal Highway Administration (FHWA), DOT.

ACTION: Notice.

SUMMARY: The FHWA is issuing this notice to announce the implementation plan for the Highways for LIFE (HfL) Pilot Program outlined in Section 1502 of the Safe, Accountable, Flexible, Efficient Transportation Equity Act: A Legacy for Users (SAFETEA-LU). LIFE is an acronym for “Long-lasting, Innovative, Fast construction of Efficient and safe pavements and bridges.” The purpose of the HfL Pilot Program is to accelerate the rate of adoption of innovations and technologies, thereby improving safety and highway quality while reducing congestion caused by construction. This will be accomplished through technology transfer, technology partnerships, information dissemination, incentive funding of up to 20 percent, but not more than $5 million on Federal-aid highway projects (eligible for assistance under Chapter 1 of title 23, United States Code) and HfL Program accountability.

DATES: May 25, 2006.

FOR FURTHER INFORMATION CONTACT: Byron Lord, Office of Infrastructure, HIHL-1, (202) 366-0131; Mr. Michael Harkins, Office of the Chief Counsel, HCC-30, (202) 366-4928; Federal Highway Administration, 400 Seventh Street, SW., Washington, DC 20590-0001. Office hours are from 7:45 a.m. to 4:15 p.m., e.t., Monday through Friday, except Federal holidays.

SUPPLEMENTARY INFORMATION:

Electronic Access and Filing

Internet users may access all comments received by the U.S. DOT Dockets, Room PL-401, by using the universal resource locator (URL) for the Document Management system (DMS) at http://dms.dot.gov. The DMS is available 24-hours each day, 365 days each year. An electronic copy of this document may be downloaded by using the Internet to reach the Office of the Federal Register's home page at http://www.archives.gov and the Government Printing Office's Web site at http://www.access.gpo.gov/nara.

I. Background

The FHWA published a notice on December 30, 2005 (70 FR 77446), that proposed an implementation plan for the HfL Pilot Program, as outlined in Sections 1101 and 1502 of the Safe, Accountable, Flexible, Efficient Transportation Equity Act: A Legacy for Users (SAFETEA-LU) (Pub. L. 109-59, August 10, 2005). The notice requested comments on the FHWA's proposed plan to implement the program and to develop the final implementation document for the program.

The purpose of the HfL Pilot Program is to accelerate the rate of adoption of innovations and technologies, thereby improving safety and highway quality while reducing congestion caused by construction.

II. Discussion of Comments and Responses

A. Summary of Comments

In response to the December 30, 2005, notice, the FHWA received eight sets of comments. These comments were submitted by eight State Transportation Agencies (STA), three highway-related associations; and one private company. The comments were supportive of the proposed HfL Program but offered suggestions of how it could be better implemented.

The following discussion summarizes the comments submitted to the docket by the commenters on the proposed implementation plan for the HfL Pilot Program and FHWA's responses to the comments.

B. Significant Comments and Changes to the Implementation Plan

1. Funding

a. Amount of Incentives

An industry association recommended that the FHWA consider providing more HfL funds to fewer projects. We acknowledge that $500,000 to $1,000,000 is a small incentive for a STA to implement new innovations. The purpose of the HfL Program is not to simply fund construction projects. It is to create within the highway community new business practices that seek innovation and new technology for building safer, better, less congested highways. The projects are platforms to showcase innovation and deliver technology transfer. The goal of an HfL project in each State is to provide a base across the nation for innovation. It is possible that funding may be lower or higher than $500,000 to $1,000,000. This amount is offered as guidance and reflects available funds. In describing the projects phase of the program, the legislation stipulated that “the Secretary, to the maximum extent possible, shall approve at least 1 project in each State for participation in the pilot program and for financial assistance”.

b. Funding for Projects Already Underway

An industry association suggested that the FHWA reward States that already have projects underway that are meeting HfL Program goals. Highways for LIFE has already taken steps to recognize States that have sought innovative solutions to improve safety, quality and reduce construction congestion through our Success Stories on the HfL Web site.¹ The purpose of the projects portion of HfL is to stimulate new innovations and accelerate implementation. Using the limited funding to “reward” States for their innovation initiative would deplete an already limited resource and not provide the platforms for demonstrations and peer-to-peer exchange.

¹ The Highways for LIFE Web site is available at the following URL: http://www.fhwa.dot.gov/hfl.

c. Match Waiver

An industry association suggested that the FHWA should allow a match waiver not only for the grant itself but also for the use of other Federal-aid in the project. The program does indeed allow for the State match to be funded by other Federal-aid. For projects carried out using funds apportioned to the State under section 104(b)(1)-(4) of title 23, United States Code, (i.e., National Highway System, Congestion Mitigation and Air Quality Improvement Program, Surface Transportation Program, and Interstate Maintenance funds), the State may request the Federal share be adjusted up to 100 percent. The funding category proposed in the nomination must meet the program funding eligibility requirements. However, not more than 10 percent of the total of any one particular apportioned Federal-aid fund can be applied to the HfL project.

d. Spending Plan

After considering the comment offered by several stakeholders, the FHWA has decided to increase the funding provided for Projects from 60 to approximately 70 percent of the available HfL funding. The goal of Highways for LIFE is to accelerate the adoption of innovations and technologies and to create new practices in developing and delivering highways and bridges. It is not intended solely to create additional funds for Federal-aid projects. We acknowledge that with a $75 million program, the amount designated for projects would not be significant enough to change the culture at a STA to adopt the HfL philosophy. Therefore, appropriate funding for the marketing and communication tools such as technology transfer, information dissemination, and technology partnership is essential to accomplish the intent of the HfL Program.

2. Performance Goals

a. Whether a project is bound to program performance measures or may States propose their own performance measures

Several stakeholders commented that the STAs should be allowed to propose performance goal targets for their projects to reflect a range of project scenarios and that those should be measured as percent improvements. The HfL Project application will allow the STA to propose their performance goal targets within Safety, Construction Congestion, Quality, and User Satisfaction. However, the STA must explain why it is not accepting the HfL performance goal and justify their proposed goal.

Industry associations and STA suggested that the FHWA not narrow project selections based on meeting all of the Performance Goals. Rather, the FHWA should consider project proposals that may do an extraordinary job accomplishing one or more of the Performance Goals. Project proposals that only meet one or two of the Performance Goals will be reviewed and may be selected. However, project proposals that meet all Performance Goals will be given preference.

b. User Satisfaction Surveys

There were a number of comments concerned with the effort, cost, value, and reporting of user satisfaction. One comment states that “a user satisfaction survey could eat up a large portion of the funding (for a project), and that past experience with user satisfaction surveys is that they are expensive to conduct, receive poor response rates, and are generally inconclusive.”

The proposed implementation plan published in the Federal Register in December outlined a feedback mechanism, which lists two questions, “How satisfied the user is with the new facility;” and (2)” How satisfied the user is with the approach used to construct the new facility in terms of minimizing disruption?” A five-point Likert scale (1 = Not at all; 2 = Somewhat; 3 = Neutral; 4 = Somewhat positive; 5 = Very positive) is to be used, with a 4 + score being the level of success sought.

While scientifically based “omnibus” surveys (which cover a wide range of topics) can be costly, the type of feedback sought here does not need to be. It may be specific to the project itself and nothing else, and contain nothing but the two key questions stipulated, if the agency so desires. Agency public affairs offices have come up with creative ways of surveying affected publics. They have, for example, worked with the local newspaper's editorial board or transportation writer, and had the survey featured as a piece in the neighborhood edition that covers the project's area. In other cases, public affairs offices have set up newsletters distributed to businesses and residents in the project locale, and these could be used to carry the survey questions.

Historically, the American Association of State Highway and Transportation Officials (AASHTO) has recognized the vital role customer satisfaction plays in the quality of a highway project or program. In 2000, AASHTO's Standing Committee on Quality issued a Knowledge Sharing Database, which listed responses from 22 of 31 states surveyed on how they obtain feedback from highway users and other customers.² Such case studies, as well as shared experiences will be helpful in determining how an agency wishes to respond to this requirement. Also, the FHWA will develop a toolbox of techniques and instruments, which can be used. The toolbox will be available on the HfL Web site by June 2006.

² The user satisfaction toolbox is available at the following URL: http://www.fhwa.dot.gov/hfl.

There is an implied sense that, as long as an agency maintains high performance goals for the areas of safety, construction congestion, and quality, then user satisfaction will be taken care of; however, that is not always the case. There are a number of cases where agencies wished to use a particular approach in developing a project that supported those three key goals, yet found that the neighborhood community impacted by the project was set against the particular approach. The overarching goal of the Highways for LIFE Program is to dramatically enhance the driving experience of the American public. Having a method for direct feedback from the public is the only way to ensure that the goal is attained.

The two questions posed to the highway users as an integral aspect of the project often means a need for some level of user education on the need the project and the approaches taken will fill. While some might feel that the work speaks for itself, all too often, such is not the case. For example, where an agency goes to great trouble and expense to remove an old bridge structure and replace it overnight, many members of the driving public will not even know that the effort occurred. On the other hand, if the agency had used conventional approaches of using extensive work zones for months on end, the public would certainly be aware of the work, although the resulting customer satisfaction level may not be ideal. What is often needed is an educational effort to make customers aware of the work the agency is doing, so that, once the work is completed and surveys are taken, highway users can make informed decisions in their survey question responses. The FHWA will focus extra attention on the media and other interested parties on Highways for LIFE projects, making all aware of the importance and the benefits they have for the public.

c. Quality

An industry association recommended additional emphasis on longevity and durability. The FHWA recognizes the importance of longevity and durability; these characteristics are very much a part of the HfL Program. However, the ability to identify reliable metrics to provide sufficient reliability in the prediction of performance has remained elusive. Performance measures are intended to provide an achievable, measurable level of outcome that defines the desired outcome without directing how to achieve it. We will continue to work with stakeholders to maintain the importance of durability and longevity.

An industry association suggested the use of the new Mechanistic-Empirical Pavement Design Guide as an index for longevity. The new Mechanistic-Empirical Pavement Design Guide is a tool currently in development and refinement by FHWA and AASHTO. Its suitability for this purpose has not been demonstrated. If projects are submitted that use the new Guide in the pavement design as an innovative practice, it will be taken under consideration in the evaluation.

We received several comments concerning the improvement of material quality by specifying uniformity (low variability). While low variability of material tests may be an indication of more uniformity in material, there are many factors that are necessary to obtain a quality project with an extended life. The FHWA is willing to work with STAs' efforts to quantify quality using uniformity of materials as a measure and encourages other innovative measures that indicate a quality product and extended life.

An industry association suggested that the FHWA should consider allowing the measurement of smoothness and noise as part of user satisfaction. Smoothness and noise are related to the users and will effect user satisfaction. Many factors, along with smoothness and noise, are involved in user satisfaction, which is much more difficult and complex to quantify. The FHWA will consider smoothness and noise in determination of user satisfaction, and will still consider smoothness and noise measurements as measures of quality.

An industry association suggested including pavement friction and light reflectivity as a quality measurement. Friction or the ability of the surface of the pavement or bridge to provide a safe platform for steering and stopping is an important safety component of the system. The FHWA will accept innovative practices to assure safety along with performance measures to determine it has been achieved. The FHWA will work with the States to identify appropriate performance levels for pavement friction as a quality measurement. Light reflectivity is an important performance measure for striping, signs and delineators. How to do this for pavement surfaces to set safety performance measures remains to be identified. The HfL Program only considers proven technology. We are not aware of any light reflectivity requirements on pavement surfaces at this time. We will work with the States that desire to identify appropriate performance levels for reflectivity as a quality measurement.

3. Proprietary Products and Processes

A private company supported the implementation of Super-Slab System®, and proprietary products. Super-Slab System® (prefabricated pavement) is eligible to be considered as innovative practices to speed construction and minimize construction caused congestion. Proprietary products frequently offer benefits in safety, quality and speed of construction. The FHWA is open to their use and will work with States to allow the flexibility to incorporate all forms of innovation into the HfL Program.

Contracting agencies are subject to the FHWA regulations at 23 CFR 635.411 concerning the use of patented and proprietary products and processes. For more guidance of the application of these regulations, please refer to http://www.fhwa.dot.gov/programadmin/contracts/011106.cfm. However, contractors are free to select their own products, including proprietary products, as long as they meet contract specifications. In order to encourage contractors to be innovative and use products that further the objectives of the HfL Program, STAs should consider performance-based specifications.

Conclusion

As a result of stakeholder feedbacks, the following are the major changes that have been made to the proposed implementation plan that was published in December 2005:

• Revised the performance goals in the areas of Work Zone Safety During Construction, Worker Safety During Construction, and Construction Congestion.

• Allow the STA to propose their performance goal targets within Safety, Construction Congestion, Quality and User Satisfaction with justification.

• Established a goal to solicit the project nominations for FY06 and FY07 simultaneously.

• All candidate project applications are to be submitted electronically through the following Web site: http://www.Grants.gov.

• Clarified the HfL Project funding options.

• Revised the HfL spending plan.

III. Highways for LIFE Implementation Plan

HfL Pilot Program

Reflecting on the condition of existing highways and the traditional processes used for building new ones, the American public has expressed, through national and local surveys, public meetings, and other means, a need for an improved driving experience. Elements such as reducing congestion in construction work zones, reducing construction time, a need for improved levels of safety and quality, and more cost effective approaches have become the subject of much concern.

Congress intended the HfL Pilot Program to incentivize the use of innovative technologies and practices with the expectation that safe, efficient highways and bridges can be built faster, and with greater durability. The legislation reflects an understanding that the best approach to improving the quality of the highway system is made by working through the individuals and organizations charged with designing, building, and operating it. The FHWA intends to create an atmosphere that encourages and enables the rapid adoption of innovations in the design, construction and operation of highways.

The HfL Program has six program elements, which are discussed in detail below. These program elements are as follows: Technology transfer, technology partnerships, information dissemination, projects, funding, and accountability.

Technology Transfer

The key approach for improving the quality of the highway system is the application of existing but under-utilized, high payoff highway innovations, such as, equipment, techniques, processes, materials and management processes. The key to using these innovations is a knowledgeable workforce that is aware of the benefits and committed to improving the driving experience of all Americans.

The purpose of the technology transfer initiative is to train, inform, motivate, enable and equip the highway community workforce to more efficiently deliver projects that meet the HfL Pilot Program performance goals using the above-mentioned innovations. Components of the technology transfer program may include technology training for public and private sector personnel, a knowledge exchange Web site where practitioners can log on and share ideas, technology workshops, and HfL project showcases demonstrating the actual use of the technology. The phrase, “technology transfer” has long been used to describe the process for taking such infrequently used innovations and making them standard approaches that a transportation agency is comfortable using on a day-to-day basis. Unfortunately, it has traditionally taken years or even decades to bring about such adoptions. This delay is not merely a factor of limited resources, workload, lack of awareness, and conservatism on the part of agency staffs, but also a lack of a standard concentrated approach for rolling out innovations. As part of the HfL Program, a major effort will be undertaken to develop an improved technology transfer process to significantly speed the adoption of innovations. This improved technology transfer process will be piloted focusing on a few innovations.

Specifically, the FHWA is proposing an innovation in each of the areas of safety, congestion and quality. These innovations need to be national in scope and have the potential for adding significant benefits to the highway community and highway users. The FHWA has already proposed three innovations that meet the HfL criteria: Prefabricated Bridge Systems and Elements ³; Road Safety Audits ⁴; and “Making Work Zones Work Better ⁵.” Focusing on these three innovations does not mean that they are requirements for any proposed HfL-funded project. On the contrary, as outlined later in this document, any innovation that addresses the HfL performance goals may be used in an HfL-funded project.

³ For more information on Prefabricated Bridge Elements and systems go to: http://www.fhwa.dot.gov/bridge/prefab/.

⁴ For more information on Road Safety Audits go to: http://safety.fhwa.dot.gov/index.htm.

⁵ For more information on “Making Work Zones Work Better” go to: http://www.ops.fhwa.dot.gov/wz/index.asp.

Additional technology transfer efforts would be provided by the HfL Program through an innovations workshop for each HfL-funded project. The workshop may be similar in scope and structure to the Accelerated Construction Technology Transfer ⁶ workshops sponsored by the American Association of State Highway and Transportation Officials (AASHTO) and FHWA.

⁶ For more information on ACTT go to: http://www.fhwa.dot.gov/construction/accelerated.

Technology Partnerships

Within the HfL Pilot Program, Technology Partnerships are intended to foster the development, improvement and creation of innovative technologies and facilities, including the use of proprietary products, technologies or methodologies. Due to limited resources, the FHWA intends to focus this element of the HfL Program on refining and improving existing innovations for application on highway construction. The FHWA would enter into either a grant or cooperative agreement with public or private organizations to jointly fund or otherwise participate in adapting and/or making market-ready innovations to support the HfL Pilot Program. These agreements may be with traditional partners in the highway construction business or other organizations outside of the highway industry, which have promising innovations that can be made ready for timely implementation.

The HfL Technology Partnerships have a two-fold purpose: First, they are intended to foster the implementation of under-utilized innovations that will improve the safety, speed of highway construction, quality, cost effectiveness, and durability of pavements and bridges. Second, they provide an opportunity for those not involved in construction of the HfL projects aspect of the program to participate in, contribute to, and benefit from the Program.

The HfL Technology Partnerships would provide financial impetus needed to move some of the many proven but underutilized innovations and methods into routine practice in the highway industry. Innovations brought forward through the technology partnerships may be used in the HfL Projects and promoted through HfL technology transfer and information dissemination.

To be considered for participation, the innovation must have been used successfully in highway, transportation, or in some related venue which has a clear potential for successful use in the United States highway industry.

A detailed approach to technology partnerships has not yet been developed because this is an area where stakeholder and industry input is needed. Due to the desire to obtain input, as well as the lower level of funding in the first year of the HfL Program, it is proposed that funding for Technology Partnerships would begin in fiscal year 2007. However some deviations may be necessary, since the HfL technology partnerships effort focuses on proven technologies, rather than research.

Information Dissemination

An essential component of transferring technology is information dissemination, including the communication of the HfL goals, concepts and services. Communicating the HfL story is critical for several reasons: First, without a high level of communication, there would be no “technology transfer;” innovative approaches would remain with those people who initially employed them. Secondly, recounting others' successes tends to instill within organizations a higher level of competition and peer-pressure to keep up with the rest of the community.

Although Information Dissemination is a major element of Technology Transfer, the importance of this communication element within the overall HfL Pilot Program is sufficient to create a separate category of activities. One key reason is that others, outside the primary audience of individuals and organizations who design, build, and operate the nation's highways, need to be informed as well about safer, less congested and improved quality highways and bridges. The driving public, for example, needs to be a key recipient because they are the ultimate beneficiaries of the overall effort. Providing the information starts the dialog to ensure that activities undertaken within the program really are pertinent to improving the public's driving experience. Finally, the public needs to be informed because public opinion can be a major motivator to getting individuals and organizations who are slow to adopt innovations to move faster. Telling the public about the highway community's push for better roads and the HfL projects builds goodwill and shows an appropriate level of responsiveness to the public's need. It demonstrates that the highway community is being a good steward of the public trust. It also has the potential to show highway builders the benefits of using HfL approaches on more of their projects.

A key tool for information dissemination would be the publicizing of HfL success stories, showing how innovation can improve safety, reduce construction-related congestion, and improve quality, and why it is beneficial to pursue non-traditional approaches and innovations.

Communication tools such as publications, videos, special events, media relations, the Internet, and a web-based Community of Practice can be employed in getting information on the various elements of the HfL Program to different audiences. Specifically, those audiences may include the highway community, academia, associated industries and private sector groups, schools, elected officials, media, and the public in general.

Another facet of information dissemination will be publicizing the success of each of the HfL demonstration projects. This will be accomplished at the local, regional and national levels and will be done during and after construction. The focus in publicizing the HfL project success stories will be on the innovations, the resulting benefits and the people in the State DOT, Industry and Division Office that made it happen. One technique may be the establishment of an annual awards program and celebration for the HfL projects. Another technique would be a ribbon cutting ceremony for the HfL project. Additionally, HfL can work with other organizations such as the national Partnership on Highway Quality, industry associations, American Automobile Association, American Trucking Associations, State DOT Public Affairs offices in publicizing HfL projects and the people involved in constructing the projects. Positive information dissemination coupled with recognition will be used as a means to perpetuate the behavior and outcomes achieved on the HfL projects.

Projects

While training such as that outlined previously in the technology transfer section is important, the challenge is to get the transportation professional to put that training to use on an actual project. Such on-the-job experience will be provided through the Projects activity of the HfL Program. State transportation agencies will be asked to work with the FHWA Division Offices to identify candidate projects for HfL incentives where it intends to employ innovations that it was not used or rarely used in its State.

Funding construction projects within the HfL Program will allow for detailed documentation of the potential improvements in safety, construction-related congestion and quality that can be achieved through the application of innovations on actual projects. It may also serve as a new business model for how a State manages its highway project delivery process. The demonstration will involve showing the highway community and the public how the HfL projects are designed, built, and perform. Widespread demonstration of successes will, in turn, provide the impetus for more widespread application of the performance goals and innovations in the future.

Performance Goals

Paragraphs (a)(3) and (b)(4)(A) of Section 1502 of SAFETEA-LU makes reference to “performance standards.” In the HfL Program, the term “performance standards” are also synonymous with “performance goals,” which define the desired end result to be achieved on the projects. The FHWA has selected performance goals to put the emphasis on the highway motorist needs, to foster the acceptance and adoption of innovations, and to reinforce the need to address all goals—safety, congestion, user satisfaction, and quality—in every project. The individual HfL performance goals would be set at levels representing the best the highway community has and is able to produce.

In proposing performance goals for HfL projects, the FHWA considered whether a candidate goal has a highway community accepted definition, metric, measure, method, procedure, process and/or equipment. Candidate goals were evaluated with these considerations since it is expected that the State and its contractor(s) will be monitoring the goals for the design and/or construction of HfL projects.

It is FHWA's intention that the approved HfL projects would include the Performance Goals in each of the goal areas. The performance goals for HfL projects include:

Safety

• Work Zone Safety During Construction—work zone crash rate equal to or less than the pre-construction rate at the project location;

• Worker Safety During Construction—an incident rate for worker injuries to be less than 4.0 based on the OSHA 300 rate;

• Facility Safety After Construction—20 percent reduction in fatalities and injuries as reflected in 3-year average crash rates, using pre-construction rates as the baseline.

Construction Congestion

• Faster Construction—50 percent reduction, compared to traditional methods, in the duration that highway users are impacted;

• Trip Time During Construction—less than 10 percent increase in trip time during construction as compared to the average pre-construction speed using 100 percent sampling; or

• Queue Length During Construction—a moving queue length less than ½ mile (travel speed 20 percent less than posted speed) in a rural area OR a moving queue length less than 1½ mile (travel speed 20 percent less than posted speed) in an urban area.

Quality

• Smoothness—an inertial Profile, International Roughness Index (IRI) of less than 48 inches/mile.

• Noise—a close Proximity (CPX) noise measurement of less than 96.0 decibels.

User Satisfaction

• User satisfaction—project construction surveys will be used to determine user satisfaction in two areas: (1) How satisfied the user is with the new facility, compared with its previous condition, and (2) how satisfied the user is with the approach used to construct the new facility in terms of minimizing disruption. A five-point Likert scale ⁷ will be used for measurement, and the goal for each area will be 4+.⁸

⁷ For more information on the Likert scale go to: http://en.wikipedia.org/wiki/Liker_scale.

⁸ A typical question using a Likert scale poses a statement and asks the respondents whether he strongly agrees—agrees—is undecided—disagrees or strongly disagrees.

The HfL Project application will allow the STA to propose their performance goal targets within Safety, Construction Congestion, Quality and User Satisfaction. However, the STA must explain why they are not accepting the HfL performance goal and justify their proposed goal.

Solicitation

The FHWA has established a goal to solicit the project nominations for fiscal year (FY) 2006 and FY07 simultaneously and proceed with the award of the FY06 projects in October 2006 and award FY07 projects in January 2007. All subsequent solicitations and awards will occur in March and August, respectively, beginning with the solicitation of FY08 projects in March 2007.

The FHWA has been notified that, in the very near future (beginning in FY 2007), all Federal agencies will be required to use http://www.grants.gov/, an electronic format for receiving applications. Therefore, the HfL Program will use it from the beginning to avoid any confusion in the future. Grants.gov was developed as part of the President's Management Agenda and related E-Government Strategy, which charged Federal grant-making agencies with developing a single electronic system to find and apply for Federal grant opportunities.

The annual solicitation for HfL Projects will be posted in Grants.gov. Additionally, the announcement would be publicized through various other means, including posting on the World Wide Web, providing facilitation by the FHWA Division Offices, and through other outreach to the States.

All candidate project applications are to be submitted electronically through Grants.gov. The STA should submit the draft candidate project application form to the FHWA Division Office for review prior to official submittal to Grants.gov. The Division Offices shall rrrreview the project(s) application to ensure that they are complete and meet the submission requirements. Once the application has been determined to be acceptable, the Division Office shall notify STA, with a cc: to the FHWA HfL Team that the candidate project has been reviewed and that it meets the submission requirements.

Eligibility Criteria

Section 1502(b)(2) of SAFETEA-LU establishes the eligibility criteria for a project's participation in the HfL Pilot Program. The eligibility criteria includes:

• The project must construct, reconstruct, or rehabilitate a route or connection on a Federal-aid highway eligible for assistance under chapter 1 of title 23, United States Code; and

• The project must use innovative technologies, manufacturing processes, financing, or contracting methods that improve safety, reduce congestion due to construction, and improve quality.

Application Requirements

Section 1502(b)(1) of SAFETEA-LU requires States to submit an application to the Secretary in order for a project to participate in the HfL Pilot Program. This application must contain the following information:

• An identification and description of the project, including when the project will be ready for construction;

• An identification and description of the specific performance goals that are proposed for the project;

• A description of the innovative technologies, manufacturing processes, financing, and contracting methods that will be used for the proposed projects;

• A description of how the project will result in improved safety, reduced congestion due to construction, improved quality and user satisfaction; and

• Whether the State is willing to (a) participate in subsequent technology transfer and information dissemination activities associated with the project(s) (examples of such activities include conducting an “open house” for highway practitioners on the project, providing information to the FHWA for success stories, and providing briefings to the FHWA and general public on the success of the technology and process used); (b) provide information needed by HfL to evaluate the project and innovations (costs incurred as a result of supplying this information to FHWA would be an eligible project expense); and (c) accept FHWA Division Office oversight if the project is approved by HfL.

Project Selection and Evaluation

Section 1502(b)(4) of SAFETEA-LU establishes the selection criteria for approving projects for participation in the HfL Pilot Program. This criteria requires the Secretary to give priority to projects that:

• Address achieving the HfL performance goals for safety, construction congestion, quality and user satisfaction;

• Deliver and deploy innovative technologies, manufacturing processes, financing, contracting practices, and performance measures that will demonstrate substantial improvements in safety, congestion, quality, and cost-effectiveness;

• Include innovation that will lead to change in the administration of the State's transportation program to more quickly construct long-lasting, high-quality, cost-effective projects that improve safety and reduce congestion; and

• Are or will be ready for construction within one year of approval of the project application. For purposes of the HfL Program, the FHWA considers a project to be “ready for construction” when the FHWA Division Office authorizes the construction project.

In addition, the Secretary will also give priority to projects where the State demonstrates a willingness to participate in subsequent technology transfer and information dissemination activities associated with the project(s).

The evaluation committee will be composed of FHWA staff who will evaluate project applications based on the priorities noted above.

Number of Projects

Section 1502 establishes a maximum of 15 projects per year that may receive HfL funding. In considering such factors as the purpose and scope of the program available funding and the various associated costs and activities needed for each HfL construction project to contribute to the desired outcome, it is proposed that the total number of HfL projects be kept at 15 per year, with the understanding that FHWA may consider adding projects to take advantage of unique opportunities. Only 15 projects may receive HfL funding each year, there is no limit on the number of projects that may receive a waiver of the matching share requirements. However, because of required program support, HfL is limiting the number of waiver match projects it can approve.

Funding

Section 1101(a)(20) of SAFETEA-LU established total program funding at $75,000,000 through 2009, including $15,000,000 for fiscal year 2006, and $20,000,000 for each of fiscal years 2007 through 2009. This funding includes incentive grants of up to 20 percent, but not more than $5 million of the total cost of qualifying demonstration projects. A maximum of 15 projects may receive incentive funds in any fiscal year. Up to 100 percent Federal share is also allowed on HfL demonstration projects. There is a goal of providing funds for at least one project in each State by 2009. Based on the level of incentive funding provided in SAFETEA-LU, it is anticipated that individual project funding levels will be in the $500,000 to $1,000,000 range per project. Project funding options are:

Option 1: The State may request HfL funding of up to 20 percent of the total cost of a construction project as outlined in SAFETEA-LU. The maximum HfL funding available for any one project is $5 million. The HfL funds may be applied to the non-Federal share of the cost of construction. Based on funding limitations it is unlikely any project will be given the maximum amount. It is anticipated that individual project funding levels will be in the range of $500,000 to $1,000,000 per project. This HfL funding would be in addition to the State apportionment.

Option 2: For projects carried out using funds apportioned to the State under section 104(b)(1)-(4) of title 23, United States Code, (i.e., NHS, CMAQ, STP, and IM funds), the State may request the Federal share be adjusted up to 100 percent. The funding category proposed in the nomination must meet the program funding eligibility requirements. However, not more than 10 percent of the total of any one particular apportioned Federal Aid fund can be applied to the HfL project.

Option 3: The State may request a combination of both Option 1 and Option 2.

Spending Plan

The majority of the HfL funding, in the order of 70 percent, is planned to be used for projects; a significant portion of the funds, approximately 20 percent, is planned to be used for technology transfer and the remainder of the funds would be expended on technology partnerships, information dissemination and stakeholder input and involvement. This approximate distribution of funds includes the costs for monitoring and evaluation for each element.

Accountability

As a means of ensuring appropriate stewardship of public funds, the HfL Program will include several monitoring and evaluation efforts to measure the effectiveness of the program and projects, as well as stakeholder input and involvement procedures. Although the individual activities within the HfL Program will require extensive effort and funding, there will need to be measurements beyond the basic levels of success or failure of those activities taken individually. The higher level of evaluation should reflect the primary objective of the program as a whole: to accelerate the adoption of innovations and technologies thereby improving safety and highway quality while reducing congestion caused by congestion.

Monitor and Evaluation

The FHWA has the lead for monitoring and evaluation of HfL projects, and would be responsible for data collection, data storage and access, analysis, and reporting. FHWA personnel and private contractors will be used for this function. The owners of HfL-funded projects would supply or provide access to data and information. Costs associated with these activities are an eligible project expense. The FHWA Division Offices would serve as points of contact and coordination between the FHWA's contractor(s) and the State. While the FHWA will be taking the lead in the monitoring and evaluation of HfL Projects, the FHWA regards the project owner as a partner and looks forward to working with them in all aspects of the Highways for LIFE Program.

The monitoring and evaluation effort will be used to fully describe and quantify the outputs, results, and outcomes in the goal areas and to provide an assessment of the benefits derived from the overall investment. A cost effective economic analysis on HfL projects will be conducted by the FHWA HfL Team using economic techniques for measuring and valuing user cost; this might include but not be limited to Event-Only Analysis, Life Cycle Cost Analysis or Benefit-Cost Analysis. The resulting information would serve as a resource to highway program decision makers on the value of the innovations demonstrated in the HfL projects, help maintain the momentum needed to achieve the HfL goals, demonstrate the value of the entire pilot program, and provide the basis for projecting the benefits gained from expanding such an approach in the future.

The monitoring and evaluation element would encompass the entire HfL Program. For the HfL projects, information collected prior to, during, and immediately after construction would include a full array of highway condition, financing, design, contracting, construction, operations, and safety data, as well as user statistics and opinions. The costs, outcomes, impacts, and benefits of the technology partnerships would also be fully documented. To the extent possible, information collected for the technology transfer and information dissemination aspects would include objective measures of the effectiveness and impact of the individual activities that are undertaken, in addition to information on the costs of those activities. The information gathered on the HfL projects, technology transfer and technology partnerships will also be used in research and development for the next generation of technologies and innovations and future technology transfer initiatives.

Stakeholder Input

The HfL stakeholders include highway owners, builders, suppliers, consultants, academicians, users (commercial motor carriers, motorists, bicyclist, and pedestrians), and those impacted secondarily by highways (neighbors and adjacent landowners, receivers of goods shipped over highways). Through stakeholder input and involvement, the FHWA desires to refine the approach and implementation of the HfL Program as well as to build ownership for the program. Stakeholder input and involvement will be an ongoing element of the HfL Program in order to evaluate the progress of the program, consider appropriate redirection in light of progress, and assess the overall program results. Stakeholders had opportunities to provide input on both the HfL Implementation plan, and the conduct of the program itself, including:

• The HfL performance goals;

• Applicable technologies and practices;

• Technology partnerships approaches; and

• Evaluation of HfL outcomes and benefits including demonstration projects, technology partnerships, technology transfer and information dissemination.

The FHWA is considering several additional stakeholder input and involvement approaches for the HfL Program. Providing information and soliciting feedback would happen routinely through notices published in the Federal Register, presentations at highway town hall meetings or regional forums, and the establishment of a Web-based communications interchange site, or “Community of Practice” on the HfL Internet Web site http://www.fhwa.dot.gov/hfl/.

(Authority: Pub. L. 109-59, Sec. 1502, 23 U.S.C. 502 and 23 U.S.C. 315)

Issued on: May 19, 2006.
J. Richard Capka,
Acting Federal Highway Administrator.

[FR Doc. E6-7954 Filed 5-23-06; 8:45 am]

BILLING CODE 4910-22-P